DEPARTMENT OF ENERGY

Federal Energy Regulatory Commission

[Project No. 2736-046]

Idaho Power Company; Notice of Application Ready for Environmental Analysis and Soliciting Comments, Recommendations, Terms and Conditions, and Prescriptions

Take notice that the following hydroelectric application has been filed with the Commission and is available for public inspection.

a. Type of Application: New Major License.

b. Project No.: 2736-046.

c. Date filed: February 14, 2023.

d. Applicant: Idaho Power Company.

e. Name of Project: American Falls Hydroelectric Project.

f. Location: The American Falls project is located on the Snake River in Power County, Idaho, near the city of American Falls, about 25 miles southwest of Pocatello. The project is located at the American Falls Dam, owned and operated by the United States Bureau of Reclamation. The project occupies 7.37 acres of United States land administered by the U.S. Bureau of Reclamation in Power County, Idaho.

g. Filed Pursuant to: Federal Power Act 16 U.S.C. 791(a)-825(r).

h. Applicant Contact: Andrea L. Courtney, Hydro Licensing Leader, Idaho Power Company, P.O. Box 70, 1221 W Idaho St., Boise, ID 83702; (208) 388-2655; or email at ACourtney@idahopower.com.

i. FERC Contact: Golbahar Mirhosseini at Golbahar.Mirhosseini@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Deputy Secretary, Federal Energy Regulatory Commission, 888 First Street NE, Room 1A, Washington, DC 20426. Submissions sent via any other carrier must be addressed to: Debbie-Anne A. Reese, Deputy Secretary, Federal Energy Regulatory Commission, 12225 Wilkins Avenue, Rockville, Maryland 20852. All filings must clearly identify the project name and docket number on the first page: American Falls Project (P-2736-046).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The American Falls dam and spillway are owned and operated by the Bureau of Reclamation; these features are not project facilities or contained within the project boundary. The concrete gravity dam has a structural height of 103.5 feet and a crest length of 5,277 feet, width of 42.5 feet and elevation of 4,366.5 feet.¹ The spillway has a crest elevation of 4,333 feet. Reclamation operates and manages the reservoir for irrigation delivery, power generation, flood control, fish and wildlife, and recreation benefits. The reservoir has a maximum storage capacity of 2,672,590 acre-feet and 1.7 million acre-feet of usable storage capacity. Its water surface elevation fluctuates between 4,295.7 feet and 4,354.5 feet and reservoir's maximum surface area is 58,000 acres.

¹ All elevations are National Geodetic Vertical Datum of 1929 (NGVD 29).

Three 18-foot-diameter steel-lined penstocks begin at the dam intake and extend 300 feet downstream to the American Falls project's turbines. Reclamation's ownership and maintenance of the penstocks begins at the intake and extends downstream approximately 60 feet to the coupling pit. Idaho Power's ownership and maintenance of the penstocks begins at the coupling pit and extends downstream to the Project's turbines.

From the coupling pit, each of the project's 18-foot-diameter penstocks extend approximately 240 feet downstream to each of the project's three 22.5-megawatt (MW) Kaplan turbine-generator units contained in a reinforced concrete powerhouse. The total installed project capacity is 67.5 MW.² Water is discharged from the powerhouse directly to the Snake River.

² See Order Amending License, Revising Project Description, Revising Annual Charges, and Approving Revised Exhibit M issued September 27, 2002. Idaho Power Company, 180 FERC ¶ 62,170 (2022). Following turbine maintenance that commenced in October 2022 and will extend through 2025, each of the turbines will have a rated hydraulic capacity of 4,705 cfs at 88 feet net head.

Electricity generated at the powerhouse is transmitted to the electric grid via a switchyard upstream of the powerhouse containing a 13.8/138-kilovolt (kV) step-up transformer. From there power is transmitted over a 2,300-foot-long, 138-kV overhead transmission line to the American Falls Switchyard. The American Falls project generates an average of 395,000 megawatt-hours (MWh) annually.

Project recreation facilities include: Trenner Memorial Park, American Falls Park, an improved fishing and access area, and the Oregon Trail Boat Ramp (Power County Boat Ramp).

The American Falls project operates in a run-of-release mode, which means it only uses flows released to the project by Reclamation. More specifically, power generation is seasonally dictated as reservoir levels and irrigation flow deliveries are set by Reclamation.

m. A copy of the application can be viewed on the Commission's website at http://www.ferc.gov using the “eLibrary” link. Enter the docket number excluding the last three digits in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural Schedule: The application will be processed according to the following schedule. Revisions to the schedule will be made as appropriate.

Milestone | Target date
Deadline for Filing Comments, Recommendations, and Agency Terms and Conditions/Prescriptions | April 2024.
Licensee's Reply to REA Comments | May 2024.

p. Final amendments to the application must be filed with the Commission no later than 30 days from the issuance date of this notice.

Dated: February 7, 2024.
Debbie-Anne A. Reese,
Acting Secretary.

[FR Doc. 2024-02921 Filed 2-12-24; 8:45 am]

BILLING CODE 6717-01-P